DEPARTMENT OF HOMELAND SECURITY

National Protection and Programs Directorate, Office of Grants and Training for Comments on a New Information Collection Request (Staffing for Adequate Fire and Emergency Response Grants Program); Submission for Review; New Information Collection Request

AGENCY: Department of Homeland Security, National Protection and Programs Directorate, Office of Grants and Training, Staffing for the Adequate Fire and Emergency Response Grants Programs.

ACTION: Notice; 30-day notice of information collections under review.

SUMMARY: The Department of Homeland Security (DHS) has submitted the following information collection request (ICR) to the Office of Management and Budget (OMB) for review and clearance in accordance with the Paperwork Reduction Act of 1995: 1670_NEW. The information collection was previously published in the Federal Register on October 24, 2006 pages Volume 71, Number 205, Page 62273, allowing for OMB review and a 60-day public comment period. No comments have been received by DHS. The purpose of this notice is to allow an additional 30 days for public comments.

DATES: Comments are encouraged and will be accepted until August 22, 2007. This process is conduced in accordance with 5 CFR 1320.10.

Comments: Interested persons are invited to submit written comments on the proposed information collection to the Office of Information and Regulatory Affairs, Office of Management and Budget. Comments should be addressed to Nathan Lesser, Desk Officer, Department of Homeland Security/Grants and Training, and sent via electronic mail to oira_submission@omb.eop.gov or faxed to (202) 395-6974.

The Office of Management and Budget is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

FOR FURTHER INFORMATION CONTACT: A copy of this ICR, with applicable supporting documentation, may be obtained by calling Nathan Lesser, Desk Officer, Department of Homeland Security, Washington, DC 20528; and sent via electronic mail to oira_submission@omb.eop.gov or faxed to (202) 395-6974 (this is not a toll free number.)

SUPPLEMENTARY INFORMATION:

Analysis

Agency: National Protection and Programs Directorate, Office of Grants and Training, Assistance to the Firefighters Program Office, Department of Homeland Security.

Title: Staffing for Adequate Fire and Emergency Response grants program (SAFER).

OMB No.: 1670-NEW.

Frequency: Annual.

Affected Public: State, Local, Tribal Government.

Estimated Number of Respondents: 4,500-5,000 respondents.

Estimated Time Per Respondent: 1 hour per response.

Total Burden Hours: 70,000.

Total Burden Cost: (capital/startup): None.

Total Burden Cost: (operating/maintaining): None.

Description: Information sought under this submission will comprise the grant application for the Staffing for Adequate Fire and Emergency Response (SAFER) grant program. This submission is necessary in order for DHS to effectively implement a competitive grant program. The SAFER program provides for $110,000,000 in grant funding to be distributed directly to individual fire departments on a competitive basis. The law allows DHS to provide funds to pay the salaries and benefits of newly hired firefighters with decreasing Federal contributions over the span of five years. The law also allows DHS to provide funding to volunteer and combination fire departments to create or expand a recruitment and retention program for volunteer firefighters. The funding is available for up to four years depending on the original proposal submitted by the grantee. The information collected through the program's application is the minimum necessary to evaluate grant applications authorized under the SAFER grant program or is necessary for DHS to comply with mandates delineated in the law. The Assistance to Firefighters Program Office has created an online tutorial and drafted program guidance which will be available prior to the application period at www.firegrantsupport.com.

Dated: July 17, 2007.
Fawn Pettigrew,
Director of Operations, National Programs and Protection Directorate, Department of Homeland Security.

[FR Doc. E7-14142 Filed 7-20-07; 8:45 am]

BILLING CODE 4410-10-P